DEPARTMENT OF ENERGY

Federal Energy Regulatory Commission

[Docket No. RP00-595-001]

Viking Gas Transmission Company; Notice of Compliance Filing

January 5, 2001.

Take notice that on January 2, 2001, Viking Gas Transmission Company (Viking) filed a statement of its compliance with section 284.12(c)(3)(i)(B) of the Commission's regulations, 18 CFR 284.12(c)(3)(i)(B), in accordance with the Commission's October 3, 2000 Letter Order issued in Docket Nos. RM96-1-009 and RP00-595-000.

Any person desiring to protest said filing should file a protest with the Federal Energy Regulatory Commission, 888 First Street, NE., Washington, DC 20426, in accordance with Section 385.211 of the Commission's Rules and Regulations. All such protests must be filed on or before January 12, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-849 Filed 1-10-01; 8:45 am]

BILLING CODE 6717-01-M